DEPARTMENT OF AGRICULTURE

Forest Service

Idaho Panhandle National Forest; Idaho; Idaho Panhandle National Forest Noxious Weed Treatment Project; Withdrawal

AGENCY: Forest Service, Agriculture (USDA).

ACTION: Notice; withdrawal.

SUMMARY: The Idaho Panhandle National Forest is withdrawing its Notice of Intent (NOI) to prepare an Environmental Impact Statement (EIS) for the Noxious Weed Treatment Project. The original NOI was published on pages 70954-70955 of the Federal Register on November 16, 2011. The Forest plans to complete an Environmental Assessment (EA) to determine if there are significant effects warranting the preparation of an EIS.

FOR FURTHER INFORMATION CONTACT: Questions concerning this notice should be directed to Forest Environmental Coordinator Anjel Tomayko by email at anjeleeca.tomayko@usda.gov or by phone at 208-765-7259. Individuals who use telecommunication devices for the deaf/hard-of-hearing (TDD) may call the Federal Relay Service (FRS) at 1-800-877-8339, 24 hours a day, every day of the year, including holidays.

Gregory C. Smith,
Associate Deputy Chief, National Forest System.

[FR Doc. 2025-03949 Filed 3-12-25; 8:45 am]

BILLING CODE 3411-15-P